INTERNATIONAL BOUNDARY AND WATER COMMISSION, UNITED STATES AND MEXICO

United States Section, Notice of Availability of a Draft Supplemental Environmental Assessment and Finding of No Significant Impact for Improvements to the Mission Levee Protective System in Hidalgo County, Texas

AGENCY: United States Section, International Boundary and Water Commission, United States and Mexico (USIBWC).

ACTION: Notice of Availability of Draft Supplemental Environmental Assessment (SEA) and Finding of No Significant Impact (FONSI).

SUMMARY: Pursuant to Section 102(2)(c) of the National Environmental Policy Act (NEPA) of 1969, the Council on Environmental Quality Final Regulations (40 CFR parts 1500 through 1508), and the United States Section's Operational Procedures for Implementing Section 102 of NEPA, published in the Federal Register September 2, 1981 (46 FR 44083); the USIBWC hereby gives notice of availability of the Draft Supplemental Environmental Assessment and FONSI for Improvements to the Mission Levee Protective System located in Hidalgo County, Texas. An environmental impact statement will not be prepared unless additional information which may affect this decision is brought to our attention within 30-days from the date of this notice.

FOR FURTHER INFORMATION CONTACT: Daniel Borunda, Natural Resources Specialist, Environmental Management Division, United States Section, International Boundary and Water Commission; 4171 N. Mesa, C-100; El Paso, Texas 79902. Telephone: (915) 832-4767; e-mail: Daniel.Borunda@ibwc.gov.

DATES: Comments on the Draft SEA and Draft FONSI will be accepted through May 6, 2011.

Availability: Single hard copies of the Draft Supplemental Environmental Assessment and Finding of No Significant Impact are available by request at the above address. Electronic copies are available from the USIBWC homepage at http://www.ibwc.gov/Organization/Environmental/EIS_EA_Public_Comment.html.

Dated: March 31, 2011.
Pamela Barber,
Attorney/Advisor.

[FR Doc. 2011-8132 Filed 4-5-11; 8:45 am]

BILLING CODE 7010-01-P